DEPARTMENT OF AGRICULTURE

Forest Service

Yakutat Resource Advisory Committee

AGENCY: Forest Service, USDA.

ACTION: Notice of meeting.

SUMMARY: The Yakutat Resource Advisory Committee will meet in Yakutat, Alaska. The purpose of the meeting is to continue business of the Yakutat Resource Advisory Committee. The committee was formed to carry out the requirements of the Secure Rural Schools and Community Self-Determination Act (Pub. L. 110-343) and in compliance with the Federal Advisory Committee Act. The agenda for this meeting is to review submitted project proposals and consider recommending projects for funding. Project proposals were due by December 31, 2011 to be considered at this meeting.

DATES: The meeting will be held March 29, 2011 from 6-9 p.m.

ADDRESSES: The meeting will be held at the Kwaan Conference Room, 712 Ocean Cape Road, Yakutat, Alaska. Send written comments to Lee A. Benson, c/o Forest Service, USDA, P.O. Box 327, Yakutat, AK 99689, electronically to labenson@fs.fed.us, or via facsimile to 907-784-3457.

All comments, including names and addresses when provided, are placed in the record and are available for public inspection and copying. The public may inspect comments received at Yakutat Ranger District, 712 Ocean Cape Road, Yakutat, AK 99689.

FOR FURTHER INFORMATION CONTACT: Lee A. Benson, District Ranger and Designated Federal Official, Yakutat Ranger District, (907) 784-3359.

SUPPLEMENTARY INFORMATION: The meeting is open to the public. The following business will be conducted: (1) Review status of past projects. (2) Review and recommend future projects; and (3) Public Comment. Persons who wish to bring related matters to the attention of the Committee may file written statements with the Committee staff before or after the meeting.

Dated: February 25, 2011.
Lee A. Benson,
Designated Federal Officer, Yakutat Ranger District, Tongass National Forest.

[FR Doc. 2011-5219 Filed 3-7-11; 8:45 am]

BILLING CODE 3410-11-P